DEPARTMENT OF COMMERCE

National Oceanic and Atmospheric Administration

[I.D. 010605B]

North Pacific Fishery Management Council; Notice of Public Meetings

AGENCY: National Marine Fisheries Service (NMFS), National Oceanic and Atmospheric Administration (NOAA), Commerce.

ACTION: Meetings of the North Pacific Fishery Management Council and its advisory committees.

SUMMARY: The North Pacific Fishery Management Council (Council) and its advisory committees will hold public meetings February 7 through February 15, 2005 at the Renaissance Madison Hotel, 515 Madison Street, Seattle, Washington.

DATES: The Council's Advisory Panel will begin at 8 a.m., Monday, February 7 and continue through Friday February 11, 2005. The Scientific and Statistical Committee will begin at 8 a.m. on Monday, February 7, 2005, and continue through Wednesday, February 9, 2005.

The Council will begin its plenary session at 8 a.m. on Wednesday, February 9 and continuing through Tuesday February 15. All meetings are open to the public except executive sessions. The Enforcement Committee will meet Tuesday, February 8 from 1 pm to 5 pm. The Ecosystem Committee will meet Monday, February 7, from 1 pm to 5 pm.

ADDRESSES: Renaissance Madison Hotel, 515 Madison Street, Seattle, Washington.

Council address: North Pacific Fishery Management Council, 605 W. 4th Avenue, Suite 306, Anchorage, AK 99501-2252.

FOR FURTHER INFORMATION CONTACT: Council staff; Phone: 907-271-2809.

SUPPLEMENTARY INFORMATION:

Council Plenary Session

The agenda for the Council's plenary session will include the following issues. The Council may take appropriate action on any of the issues identified.

Reports

Executive Director's Report

National Marine Fisheries Service Management Report

Enforcement Report

Coast Guard Report

Alaska Department of Fish & Game Report (and review of proposals to Board of Fisheries)

U.S. Fish & Wildlife Service Report

Protected Species Report (Review MMPA listing proposed rule

Essential Fish Habitat (EFH) and Habitat Area Particular Concern (HAPC)

Review changes to EFH Environmental Impact Statement (EIS). Final action on EFH Preferred Alternative. Final action on HAPC alternatives and Environmental Assessment/Regulatory Impact Statement/Initial Regulatory Flexibility Analysis.

Gulf of Alaska Groundfish (GOA) Rationalization

Receive report from Community Committee and action as necessary. Review crab/salmon bycatch data and refine alternatives.

GOA Rockfish Demonstration Project

Review available information and refine alternatives as appropriate.

Improved Retention/Improved Utilization (IR/IU)

Review progress on Amendment 80 analysis and legal issues, and provide direction as necessary.

American Fisheries Act

Review 2004 cooperative (co-op) reports and 2005 co-op agreements.

Bering Sea and Aleutian Island (BSAI) Bycatch

Review action plan and refine alternatives.

Groundfish Management

Non-Target Species Committee report. Review rockfish management preliminary discussion paper. GOA and BSAI Other Species breakout: Review action plan. AI Special Management Area: Review discussion paper. GOA pollock trip limits: Review discussion paper. Review EFP for Seabird avoidance measures. (T)

Staff Tasking

Review Seldovia Village request for Amendment 66 eligibility. Review tasking and Committee and initiate action as appropriate.

Other Business

Scientific and Statistical Committee (SSC)

The SSC agenda will include the following issues:

1. EFH and Center for Independent Experts

2. Groundfish Management

3. Special Session on Modeling Workshop

Advisory Panel

The Advisory Panel will address the same agenda issues as the Council.

Special Accommodations

These meetings are physically accessible to people with disabilities. Requests for sign language interpretation or other auxiliary aids should be directed to Gail Bendixen at 907-271-2809 at least 7 working days prior to the meeting date.

Dated: January 6, 2005.
Alan D. Risenhoover,
Acting Director, Office of Sustainable Fisheries, National Marine Fisheries Service.

[FR Doc. E5-57 Filed 1-10-05; 8:45 am]

BILLING CODE 3510-22-S